DEPARTMENT OF THE INTERIOR

Bureau of Reclamation

Draft Environmental Impact Statement on the Klamath Project Operation, Oregon and California

AGENCY: Bureau of Reclamation, Interior.

ACTION: Notice of extension of formal scoping period for the draft environmental impact statement on the Klamath Project operation.

SUMMARY: The Bureau of Reclamation (Reclamation) is extending the formal scoping period on an environmental impact statement (EIS) for the Klamath Project (Project) operation, a Federal reclamation project, located in southern Oregon and northern California. A formal scoping period of 120 days, through September 2, 2003, was previously announced in the Federal Register (68 FR 23761, May 5, 2003).

DATES: Reclamation is extending the formal scoping period an additional 90 days following publication of this notice. Written comments should be sent to the Reclamation Project Manager (see addresses below) December 15, 2003. Reclamation invites all interested parties to submit written comments or suggestions during the scoping period. Comments postmarked after that date will be considered to the extent practical. Dates and locations of public scoping meetings will be published in the Federal Register

ADDRESSES: Please send written comments to the Mr. Daniel S. Fritz, Project Manager, Klamath Basin Area Office, Mid-Pacific Region, Bureau of Reclamation, Attention: KO-150, 6600 Washburn Way, Klamath Falls, OR 97603.

FOR FURTHER INFORMATION CONTACT: Mr. Daniel S. Fritz at (541) 880-2556.

SUPPLEMENTARY INFORMATION: Reclamation is extending the formal scoping period to allow additional time to receive public comments and to conduct scoping meetings. Continued developments related to the Klamath Project have occurred since the formal scoping was initiated in early May 2003. Additional information may become available, such as the final report of the National Academy of Science's Committee on Endangered and Threatened Fishes in the Klamath River Basin, that could result in new information relevant to the proposed action and prompt additional scoping comments from the public useful for the environmental impact statement.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment letter. We will make all submissions from organizations or businesses, and from individuals identifying themselves as representatives or officials of organizations or businesses, available for public disclosure in their entirety.

Dated: September 3, 2003.
Frank Michny,
Regional Environmental Officer, Mid-Pacific Region.

[FR Doc. 03-23542 Filed 9-15-03; 8:45 am]

BILLING CODE 4310-MN-P